DEPARTMENT OF STATE

[Public Notice 6462]

Shipping Coordinating Committee; Notice of Subcommittee Meetings

Various subcommittees of the Shipping Coordinating Committee (SHC) will be holding public meetings in January 2009. Members of the public may attend these meetings up to the seating capacity of the rooms. Details for the meetings, including points of contact for further information, are provided in this notice.

I. Facilitation

The SHC's Subcommittee on Facilitation will conduct an open meeting at 9:30 a.m. on Wednesday, January 7, 2009, in Room 1303 of the United States Coast Guard Headquarters building, 2100 Second Street, SW., Washington, DC 20593. The primary purpose of the meeting is to prepare for the thirty-fifth session of the Facilitation Committee (FAL 35) of the International Maritime Organization (IMO) to be held 12-16 January 2009 at the IMO's London Headquarters. The primary matters for discussion for FAL 35 will include:

—General review and implementation of the Convention on Facilitation of International Maritime Traffic;

—Adoption of proposed amendments to the Annex to the Convention;

—Electronic means for the clearance of ships;

—Prevention and suppression of unlawful acts in port and at sea;

—Formalities connected with the arrival, stay and departure of persons;

—Facilitation aspects of IMO forms and certificates;

—Securing and facilitating international trade;

—Ship/port interface;

—Technical co-operation and assistance for facilitation; and

—Application of the Committee's Guidelines.

Please note that printed copies of documents associated with FAL 35 will not be available at this meeting. Documents will be available in Adobe Acrobat format on CD-ROM. To request copies of documents, please contact Mr. David Du Pont via e-mail at David.A.DuPont@uscg.mil or write to the address provided below. Please note that due to security considerations, two valid, government issued photo identifications must be presented to gain entrance to the Coast Guard Headquarters building. To facilitate the building security process, those who plan to attend should call or send an e-mail message at least two days before the SHC meeting to David.A.DuPont@uscg.mil. Interested persons may seek additional information concerning the meeting by writing to Mr. David Du Pont, Commandant (CG-523), U.S. Coast Guard Headquarters, 2100 2nd Street SW., Room 1400, Washington, DC 20593-0001 or by calling (202) 372-1497.

II. Standards of Training, Certification and Watchkeeping

The SHC's Subcommittee on Standards of Training, Certification and Watchkeeping will conduct an open meeting at 9:30 a.m. on Thursday, January 22, 2009. The meeting will be held in Room 6103 of the United States Coast Guard Headquarters Building, 2100 Second Street, SW., Washington, DC 20593. The purpose of the meeting is to prepare for the fortieth session of the IMO Sub-Committee on Standards of Training and Watchkeeping (STW 40) to be held 2-6 February 2009 at the IMO's London Headquarters. The primary matters to be considered include:

—Comprehensive review of the STCW Convention and the STCW Code;

—Unlawful practices associated with certificates of competency;

—Training for seafarer safety representatives; and

—Review of the principles for establishing the safe manning levels of ships.

Please note that printed copies of documents associated with STW 40 will not be available at this meeting. The documents will be available at the meeting in portable document format (.pdf) on CD-ROM. To request documents before the meeting, please write to the address provided below, and include your name, address, phone number, and electronic mail address. Copies of the papers will be sent via electronic mail to the address provided. Interested persons may seek additional information concerning the meeting by writing to Robert Kenney, U.S. Coast Guard (CG-5221), Room 1210, 2100 2nd St., SW., Washington, DC 20593-0001 or by e-mailing Robert.F.Kenney@uscg.mil or by calling (202) 372-1408.

III. Fire Protection

The SHC's Subcommittee on Fire Protection will conduct an open meeting at 10 a.m. on Tuesday, January 27, 2009, at the Radio Technical Commission for Maritime Services (RTCM), 1800 N. Kent Street, Suite 1060, Arlington, VA 22209. The primary purpose of the meeting is to prepare for the fifty-third session of the IMO Sub-Committee on Fire Protection (FP 53) to be held 16-20 February 2009 at the IMO's London Headquarters. The primary matters to be considered include:

—Performance testing and approval standards for fire safety systems;

—Comprehensive review of the Fire Test Procedures Code;

—Measures to prevent explosions on oil and chemical tankers transporting low flash-point cargoes;

—Fire resistance of ventilation ducts;

—Guidelines for drainage systems in closed vehicle and ro-ro spaces and special category spaces;

—Clarification of SOLAS chapter II-2 requirements regarding interrelation between central control station and safety centre;

—Evacuation analysis for new and existing passenger ships;

—Measures to prevent fires in engine-rooms and cargo pump-rooms;

—Development of provisions for gas-fuelled ships;

—Consideration of IACS unified interpretations;

—Fixed hydrocarbon gas detection systems on double-hull oil tankers;

—Harmonization of the requirements for the location of entrances, air inlets and openings in the superstructures of tankers;

—Amendments to SOLAS chapter II-2 related to the releasing controls and means of escape for spaces protected by fixed carbon dioxide systems;

—Means of escape from machinery spaces;

—Explanatory notes for the application of the safe return to port requirements;

—Review of fire protection requirements for on-deck cargo areas; and

—Analysis of fire casualty records.

The Radio Technical Commission for Maritime Service is accessible by taxi and public transportation. Please refer any questions about this meeting to the meeting coordinator, Mr. Randy Eberly, by phone at (202) 372-1393 or via e-mail at randall.eberly@uscg.mil.

Dated: December 18, 2008.
Mark Skolnicki,
Executive Secretary, Shipping Coordinating Committee, Department of State.

[FR Doc. E8-31002 Filed 12-29-08; 8:45 am]

BILLING CODE 4710-09-P